SMALL BUSINESS ADMINISTRATION

[Disaster Declaration # 13002 and # 13003]

Alabama Disaster Number AL-00040

AGENCY: U.S. Small Business Administration.

ACTION: Amendment 1.

SUMMARY: This is an amendment of the Presidential declaration of a major disaster for the State of Alabama (FEMA-4052-DR), dated 02/01/2012.

Incident: Severe Storms, Tornadoes, Straight-Line Winds, and Flooding.

Incident Period: 01/22/2012 through 01/23/2012.

Effective Date: 02/07/2012.

Physical Loan Application Deadline Date: 04/02/2012.

EIDL Loan Application Deadline Date: 11/01/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Alabama, dated 02/01/2012 is hereby amended to include the following areas as adversely affected by the disaster:

Primary Counties: (Physical Damage and Economic Injury Loans): Perry.

Contiguous Counties: (Economic Injury Loans Only):

Alabama: Hale, Marengo.

All other information in the original declaration remains unchanged.

(Catalog of Federal Domestic Assistance Numbers 59002 and 59008)

James E. Rivera,
Associate Administrator for Disaster Assistance.

[FR Doc. 2012-3456 Filed 2-14-12; 8:45 am]

BILLING CODE 8025-01-P